DEPARTMENT OF TRANSPORTATION

Federal Highway Administration

Environmental Impact Statement: Cook County, Illinois

AGENCY: Federal Highway Administration (FHWA), DOT.

ACTION: Revised Notice of Intent.

SUMMARY: The FHWA is issuing this revised notice of intent to advise the public that an environmental impact statement is being prepared for the proposed I-290 highway improvement project in Cook County, Illinois, and that the project limits in the Notice of Intent (NOI) published in the Federal Register on February 26, 2010 have been expanded.

FOR FURTHER INFORMATION CONTACT: Mr. J. Michael Bowen, P.E., Acting Division Administrator, Federal Highway Administration, 3250 Executive Park Drive, Springfield, Illinois 62703, Phone: (217) 492-4600. John Fortmann, P.E., Acting Deputy Director of Highways, Acting Region One Engineer, District 1, Illinois Department of Transportation, 201 W. Center Court, Schaumburg, IL. 60196-1096, Phone: (847) 705-4110.

SUPPLEMENTARY INFORMATION: The FHWA, in cooperation with the Illinois Department of Transportation, is preparing an environmental impact statement (EIS) on a proposal to improve Interstate 290 (I-290) located in Cook County, Illinois. Based on public input and studies conducted to date, FHWA and IDOT now will include an additional section of I-290 from east of IL 50 (Cicero Avenue) to Racine Avenue in the EIS so that the limits of the proposed improvements are from west of Mannheim Road to Racine Avenue, a total distance of 13.0 miles. The additional section between east of Cicero Avenue and Racine Avenue may include operational improvements consisting of the potential conversion of two or more lanes of the eight lane expressway to accommodate managed lanes or various tolling strategies.

Improvements to the corridor are considered necessary due to safety concerns, operational issues, traffic congestion, and age of facility. Alternatives under consideration include (1) taking no action; (2) a full range of multi-modal build alternatives that involve reconstruction of all, or portions of, I-290 and the rehabilitation of the remainder to include operational changes.

Improvements to I-290 have the potential to affect environmental features in the project area depending on the alternative selected. The corridor is located in a highly developed mature urban setting with limited biological and natural resources. The built environment has the potential to be effected. Some features include: cemeteries, parks, special waste sites, nearby historic districts, possible residential and commercial displacements, sensitive noise receptors, a crossing of the Des Plaines River, and related indirect and cumulative impact considerations.

Letters have been sent to appropriate Federal, State, and local agencies reflecting the revised project limits, describing the proposed action, and soliciting comments. Input from Resource Agencies will continue to be obtained through the established stakeholder involvement methods including the Corridor Advisory Group (CAG) and NEPA/404 Merger process.

The Illinois Department of Transportation's Context Sensitive Solutions (CSS) process will continue to be used for public involvement. The existing Stakeholder Involvement Plan (SIP) will be updated to ensure that the full range of issues related to the change in project limits are identified and addressed. The SIP will continue to provide meaningful opportunities for all stakeholders to participate in defining transportation issues and solutions for the study area. The Corridor Advisory Group will continue as a primary method of stakeholder interaction. In addition, a public hearing and comment period will be held following the release of the Draft EIS. Public notice will be given for the time and place of the public hearing. A project Web site has been established (www.eisenhowerexpressway.com) as one element of the project public involvement process.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued On: April 1, 2013.
J. Michael Bowen,
Acting Division Administrator, Springfield, Illinois.

[FR Doc. 2013-07936 Filed 4-4-13; 8:45 am]

BILLING CODE 4910-22-P